NATIONAL SCIENCE FOUNDATION

Advisory Committee for International Science and Engineering; Notice of Meeting

In accordance with the Federal Advisory Committee Act (Pub. L. 92-463, as amended), the National Science Foundation announces the following meeting:

NAME: Advisory Committee for International Science and Engineering (#25104).

DATE AND TIME: November 28, 2016; 8:00 a.m. to 5:00 p.m.; November 29, 2016; 8:00 a.m. to 1:00 p.m.

PLACE: National Science Foundation, 4121 Wilson Boulevard, Stafford II, Suite 1155.01, Arlington, Virginia 22230.

TYPE OF MEETING: Part-Open.

CONTACT PERSON: Claire Hemingway, National Science Foundation, 4121 Wilson Boulevard, Stafford II, Suite 1155.77, Arlington, Virginia 22230; 703-292-7135.

PURPOSE OF MEETING: To provide advice, recommendations and counsel on major goals and policies pertaining to international programs and activities.

Agenda

Monday, November 28, 2016 8:00 a.m.-5:00 p.m.

• Status of OISE program realignment

• Continuation of International Strategy for the NSF Big Ideas, including report out by OISE staff on Big Ideas working groups

• Follow up on Engagement with Africa session, reviewing list to be provided by Dr. Nkem Khumbah

• Engagement with China session, including discussion with Nancy Sung who will be present

• Analysis of the overseas offices (Closed Session)

Tuesday, November 29, 2016 8:00 a.m.-1:00 p.m.

• Discussion of mission/vision of Countries and Regions Cluster

• Presentation on status of OISE data analytics

• Meet with NSF leadership

Reason for Closing: Session having to do with Analysis of Overseas Offices may properly be closed to the public under 5 U.S.C. 552b(c), (2) of the Government in the Sunshine Act.

Dated: October 7, 2016.
Crystal Robinson,
Committee Management Officer.

[FR Doc. 2016-24848 Filed 10-13-16; 8:45 am]

BILLING CODE 7555-01-P